SMALL BUSINESS ADMINISTRATION

National Women's Business Council; Public Meeting

In accordance with the Women's Business Ownership Act, Public Law 106-554 as amended, the National Women's Business Council (NWBC) will hold a public meeting on Wednesday, February 7, 2007, starting at 8:30 a.m. to 12:30 p.m. The meeting will take place at the U.S. Small Business Administration, Eisenhower Conference Rooms A & B, 409 Third Street, SW., Second floor, Washington, DC 20024.

The purpose of the meeting is to discuss the NWBC's fiscal year 2007 strategy, agenda and action items, legislative updates, and status of fiscal year 2006 projects, along with an exchange of ideas about goals for the women's business community for the next three, five and ten years. Anyone wishing to attend the Council meeting must contact Katherine Stanley no later than Friday, February 2, 2007 by e-mail at katherine.stanley@sba.gov or fax to 202-205-6825. Anyone wishing to make a presentation to the Council during the meeting must contact Margaret M. Barton in writing at the National Women's Business Council, 409 Third Street, SW., Suite 210, Washington, DC 20024, by e-mail at Margaret.barton@sba.gov or fax to 202-205-6825 by Friday, January 26, 2007, in order to be put on the agenda.

Matthew Teague,
Committee Management Officer.

[FR Doc. E7-402 Filed 1-12-07; 8:45 am]

BILLING CODE 8025-01-P